DEPARTMENT OF HEALTH AND HUMAN SERVICES

National Institutes of Health

Submission for OMB Review; Comment Request; Lost People Finder System

SUMMARY: Under the provisions of Section 3507(a)(1)(D) of the Paperwork Reduction Act of 1995, the National Library of Medicine (NLM), the National Institutes of Health (NIH) has submitted to the Office of Management and Budget (OMB) a request to review and approve the information collection listed below. This proposed information collection was previously published in the Federal Register on February 8, 2010 (Vol. 75, No. 25, p. 6207) and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection: Title: Lost People Finder System, Type of Information Collection Request: Extension of currently approved collection [OMB No. 0925-0612, expiration date 07/31/2010], Form Number: NA; Need and Use of Information Collection: The National Library of Medicine (NLM) proposes the continuation of a voluntary collection of information to assist in the reunification of family members and loved ones who are separated during a disaster. Reunification is important to both the emotional well-being of people injured during a disaster and to their medical care. Family members often provide important health information to care providers who are treating the injured (e.g., providing medical history or information about allergies) and they may provide longer-term care for those released from emergency care. NLM proposes this data collection as part of its mission to develop and coordinate communication technologies to improve the delivery of health services. The data collection is authorized pursuant to sections 301, 307, 465 and 478A of the Public Health Service Act [42 U.S.C. 241, 242l, 286 and 286d]. NLM is a member of the Bethesda Hospitals' Emergency Preparedness Partnership (BHEPP), which was established in 2004 to improve community disaster preparedness and response among hospitals in Bethesda, Maryland that would likely be called upon to absorb mass casualties in a major disaster in the National Capital Region. BHEPP hospitals include the National Naval Medical Center (NNMC), the National Institutes of Health Clinical Center (NIH CC), and Suburban Hospital/Johns Hopkins Medicine. NLM, with its expertise in communications, information management, and medical informatics joined BHEPP to coordinate the R&D program, one element of which is development of a lost person finder to assist in family reunification after a disaster. The system could be deployed not only during a disaster in the National Capitol Area, but during other disasters that involve a Federal Government response. NLM's Lost People Finder System would collect information, on a voluntary basis, about people who are missing and who are found (recovered) during a disaster. Information on recovered individuals would be gathered voluntarily from medical and relief personnel who either use specialized applications developed by NLM for smart mobile computing and communications devices, such as the iPhone, iPad, Android, or BlackBerry, or submit information to NLM by email via computer or cell phone. The iPhone application developed by NLM enables submission of photographs and descriptive information about found (recovered) victims in a structured format, e.g., name (if available), age category and/or range, gender, general status (healthy, injured), location. Text notes and voice notes that might identify the speaker (victim, or relief workers assisting in the reunification efforts) could also be submitted. Information about missing persons would be submitted by members of the public who are seeking family members, friends, and other loved ones, or could be provided by relief aid workers assisting in reunification efforts. An interactive Web-based system offers the public a tool for searching for people who have been found (e.g., recovered by medical staff and other relief workers) and for voluntarily posting information about people who are still missing. In addition, the system would collect information on a regular basis from other publicly available systems that are used for reunification during a disaster for information (e.g., the Google Person Finder system that was deployed during the 2010 earthquakes in Haiti). Information submitted directly to NLM's Lost People Finder System would be transferred to other systems that are endorsed by U.S. Government agencies to ensure that users of such systems can search the complete set of available information for their family members and loved ones and to ensure that use of the NLM system in no way interrupts or distracts from the operation or use of other person finder systems. NLM would also use the data to evaluate the functioning and utility of the lost person finder and guide future enhancements to the system. Frequency of Response: The NLM Lost People Finder would be activated only during disasters or emergencies in which U.S. Government agencies are called to contribute to relief efforts. It would operate until cessation of relief efforts. During this period of time, information on found persons would be submitted by first-responders, medical, and other relief personnel on an ad-hoc basis, possibly several times per day. Information about missing persons would be submitted voluntarily by members of the public (i.e., those who are seeking family members, friends, and other loved ones) on an ad hoc basis, once or twice during the disaster. Affected Public: Individuals or households. Type of Respondents: Emergency Care First-Responders, Physicians, and Other Health Care Providers who have found (recovered) people, and family members seeking a missing person. Estimate of burden: The annual reporting burden is as follows: The estimated burden consists of the burden to emergency responders (care providers, relief workers) of voluntarily entering data into the system about found people and of family members voluntarily entering data to list a missing person and/or search for possible matches. The burden may vary significantly from one disaster to another, depending upon the number of people affected, and the annualized burden would vary, depending upon the number of disasters that occur. Using the 2010 earthquake in Haiti as a model, we estimate that some 500 emergency responders might use the system during the course of the relief effort and that each might submit information on 100 people. Submission of information, especially through the iPhone application, is very fast and is estimated to average not more than 5 minutes per entry. The number of family members entering information about a missing person could be much higher. Based on use of the Google Person Finder system during the Haiti earthquake (which contained information on 55,000 people as of April 2010, most of whom were missing people), we estimate that some 50,000 family members might use the system twice during a disaster. Data entry would average no more than 5 minutes. Based on these estimates, the total hour burden is calculated to be 12,000 hours. All use of the system is voluntary. Improved estimates of the burden, in particular the number of respondents and frequency of response, could be provided after the initial use of the system in Haiti.

Types of respondents | Estimated number of respondents | Estimated number of responses per respondent | Average burden hours per response | Estimated total annual burden hours requested
Emergency Care First-Responders, Physicians, Other Health Care Providers | 500 | 100 | 0.08 | 4,000
Family members seeking a missing person | 50,000 | 2 | 0.08 | 8,000
Total | 50,500 |  |  | 12,000

The annualized cost to respondents for each year of the clearance is estimated to be $293,120.

There are no Capital Costs, Operating Costs, and/or Maintenance Costs to report.

Request For Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: David Sharlip, National Library of Medicine, Building 38A, Room B2N12, 8600 Rockville Pike, Bethesda, MD 20894, or call non-toll free number 301-402-9680 or e-mail your request to sharlipd@mail.nih.gov.

Comments Due Date: Comments regarding this information collection are best assured of having their full effect if received within 30 days of the date of this publication.

Dated: April 30, 2010.
Betsy L. Humphreys,
Deputy Director, National Library of Medicine, National Institutes of Health.

[FR Doc. 2010-10950 Filed 5-7-10; 8:45 am]

BILLING CODE 4140-01-P